DEPARTMENT OF LABOR

Employment and Training Administration

[TA-W-81,689; TA-W-81,689A]

Niles America Wintech, Inc., Warehousing Division, a Valeo Company, Including On-Site Leased Workers from, Adecco Employment Services, Winchester, KY; Niles America Wintech, Inc., Assembly and Testing Division, a Valeo Company, Including On-Site Leased Workers from Adecco Employment Services, Winchester, KY; Notice of Affirmative Determination Regarding Application for Reconsideration

By application dated August 28, 2012 a petitioning worker, requested administrative reconsideration of the negative determination regarding workers' eligibility to apply for Trade Adjustment Assistance (TAA) applicable to workers and former workers of Niles America Wintech, Inc., Warehousing Division and Assembly and Testing Division, including on-site leased workers from Adecco Employment Services, Winchester, Kentucky (collectively referred to as the subject firm). The determination was issued on July 31, 2012. The Department's Notice of determination was published in the Federal Register on August 16, 2012 (77 FR 49462).

The initial investigation resulted in a negative determination based on the findings that the subject firm did not import services like or directly competitive with the order management, shipping, receiving, and warehousing services supplied by the subject workers.

Further, the subject firm did not shift the supply of order management, shipping, receiving and warehousing services (or like or directly competitive services) to a foreign country or acquire the supply of such services from a foreign country.

The initial investigation also revealed that the subject firm is not a Supplier to or act as a Downstream Producer to a firm that employed a group of workers who received a certification of eligibility under Section 222(a) of the Act, 19 U.S.C. 2272(a).

In addition, the subject firm did not satisfy the group eligibility requirements under Section 222(e) of the Act, either because Criterion (1) has not been met since the workers' firm has not been publically identified by name by the International Trade Commission as a member of a domestic industry in an investigation resulting in an affirmative finding of serious injury, market disruption, or material injury, or threat thereof.

Finally, with respect to Section 222(a) and Section 222(b) of the Act, the investigation revealed that Criterion (1) has not been met because a significant number or proportion of the workers in such workers' firm, have not become totally or partially separated, during the relevant time period, nor are they threatened to become totally or partially separated.

In request for reconsideration, the petitioner supplied new information regarding the number of workers who have been separated or have been threatened with separation.

The Department of Labor has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 26th day of September, 2012.
Del Min Amy Chen,
Certifying Officer, Office of Trade Adjustment Assistance.

[FR Doc. 2012-25135 Filed 10-11-12; 8:45 am]

BILLING CODE 4510-FN-P